ENVIRONMENTAL PROTECTION AGENCY

40 CFR Part 52

[EPA-R10-OAR-2015-0353; FRL-9946-49-Region 10]

Approval and Promulgation of Implementation Plans; Alaska: Updates to Incorporation by Reference and Miscellaneous Revisions

AGENCY: Environmental Protection Agency (EPA).

ACTION: Final rule.

SUMMARY: The Environmental Protection Agency (EPA) is approving, and incorporating by reference, State Implementation Plan revisions submitted by Alaska on May 12, 2015. The revisions updated the incorporation by reference of certain Federal provisions, revised rules to reflect changes to Federal permitting requirements and the 2013 redesignation of the Mendenhall Valley area of Juneau, and made minor clarifications to Alaska air quality rules. We note that the May 12, 2015 submission also included transportation conformity and infrastructure requirements. These requirements are not being addressed in this action. We approved the transportation conformity revisions in a previous action on September 8, 2015, and we intend to address the infrastructure requirements in a separate, future action.

DATES: This final rule is effective on June 20, 2016.

ADDRESSES: The EPA has established a docket for this action under Docket Identification No. EPA-R10-OAR-2015-0353. All documents in the docket are listed on the http://www.regulations.gov Web site. Although listed in the index, some information may not be publicly available, i.e., Confidential Business Information or other information the disclosure of which is restricted by statute. Certain other material, such as copyrighted material, is not placed on the Internet and will be publicly available only in hard copy form. Publicly available docket materials are available either electronically through http://www.regulations.gov or in hard copy at EPA Region 10, Office of Air, Waste, and Toxics, AWT-150, 1200 Sixth Avenue, Seattle, Washington 98101. The EPA requests that you contact the person listed in the FOR FURTHER INFORMATION CONTACT section to schedule your inspection. The Regional Office's official hours of business are Monday through Friday, 8:30 a.m. to 4:30 p.m., excluding Federal holidays.

FOR FURTHER INFORMATION CONTACT: Kristin Hall at (206) 553-6357, hall.kristin@epa.gov, or by using the above EPA, Region 10 address.

SUPPLEMENTARY INFORMATION: Throughout this document wherever “we,” “us,” or “our” is used, it is intended to refer to the EPA.

Table of Contents

I. Background

II. Final Action

III. Incorporation by Reference

IV. Statutory and Executive Order Reviews

I. Background

On May 12, 2015, Alaska submitted revisions to the Alaska SIP. On March 4, 2016, the EPA proposed to approve specific revisions in the submission (81 FR 11497). Please see our proposed rulemaking for further explanation and the basis for our finding. The public comment period for the proposal ended on April 4, 2016. We received one comment, a letter from the Alaska Department of Environmental Conservation dated May 9, 2016, acknowledging our work and supporting the proposal. We received no other comments.

II. Final Action

The EPA is approving, and incorporating by reference into the Alaska SIP, changes to the following provisions, state effective April 17, 2015:

• 18 AAC 50.010 Ambient Air Quality Standards, except paragraphs (7) and (8);

• 18 AAC 50.015 Air Quality Designations, Classifications, and Control Regions;

• 18 AAC 50.020 Baseline Dates and Maximum Allowable Increases;

• 18 AAC 50.035 Documents, Procedures and Methods Adopted by Reference, except paragraphs (a)(6) and (b)(4);

• 18 AAC 50.040 Federal Standards Adopted by Reference, except (a), (b), (c), (d), (e), (g), (i), (j), and (k); and

• 18 AAC 50.215 Ambient Air Quality Analysis Methods, except (a)(4).

We note that we previously approved the submitted rule revisions related to transportation conformity at 18 AAC 50.700 through 18 AAC 50.750, and 18 AAC 50.990 on September 8, 2015 (80 FR 53735). This action is being taken under section 110 and part C of title I of the CAA.

III. Incorporation by Reference

In this rule, the EPA is finalizing regulatory text that includes incorporation by reference. In accordance with requirements of 1 CFR 51.5, the EPA is finalizing the incorporation by reference of the Alaska regulations described in the amendments to 40 CFR part 52 set forth below. The EPA has made, and will continue to make, these documents generally available electronically through http://www.regulations.gov and/or in hard copy at the appropriate EPA office (see the ADDRESSES section of this preamble for more information).

IV. Statutory and Executive Order Reviews

Under the CAA, the Administrator is required to approve a SIP submission that complies with the provisions of the CAA and applicable Federal regulations. 42 U.S.C. 7410(k); 40 CFR 52.02(a). Thus, in reviewing SIP submissions, the EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because this action does not involve technical standards; and

• does not provide the EPA with the discretionary authority to address, as appropriate, disproportionate human health or environmental effects, using practicable and legally permissible methods, under Executive Order 12898 (59 FR 7629, February 16, 1994).

In addition, the SIP is not approved to apply on any Indian reservation land or in any other area where the EPA or an Indian Tribe has demonstrated that a Tribe has jurisdiction. In those areas of Indian country, the rule does not have Tribal implications as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by July 18, 2016. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2)).

List of Subjects in 40 CFR Part 52

Environmental protection, Air pollution control, Incorporation by reference, Intergovernmental relations, Lead, Nitrogen dioxide, Ozone, Particulate matter, Reporting and recordkeeping requirements, Sulfur oxides, Volatile organic compounds.

Authority: 42 U.S.C. 7401 et seq.

Dated: May 9, 2016.
Dennis J. McLerran,
Regional Administrator, Region 10.

For the reasons set forth in the preamble, 40 CFR part 52 is amended as follows:

PART 52—APPROVAL AND PROMULGATION OF IMPLEMENTATION PLANS

1. The authority citation for part 52 continues to read as follows:

Authority: 42 U.S.C. 7401 et seq.

Subpart C—Alaska

2. In § 52.70, the table in paragraph (c) is amended by revising entries 18 AAC 50.010, 18 AAC 50.015, 18 AAC 50.020, 18 AAC 50.035, 18 AAC 50.040, and 18 AAC 50.215.

The revisions read as follows:

§ 52.70 Identification of plan.

* * * * *

(c) * * *

EPA-Approved Alaska Regulations and Statutes
State citation | Title/subject | State effective date | EPA approval date | Explanations
Alaska Administrative Code Title 18 Environmental Conservation, Chapter 50 Air Quality Control (18 AAC 50)
* * * * * * *
18 AAC 50.010 | Ambient Air Quality Standards | 4/17/15 | 5/19/16, [Insert Federal Register citation] | except (7) and (8).
18 AAC 50.015 | Air Quality Designations, Classifications, and Control Regions | 4/17/15 | 5/19/16, [Insert Federal Register citation] |
18 AAC 50.020 | Baseline Dates and Maximum Allowable Increases | 4/17/15 | 5/19/16, [Insert Federal Register citation] |
* * * * * * *
18 AAC 50.035 | Documents, Procedures and Methods Adopted by Reference | 4/17/15 | 5/19/16, [Insert Federal Register citation] | except (a)(6) and (b)(4).
18 AAC 50.040 | Federal Standards Adopted by Reference | 4/17/15; 11/9/14 | 5/19/16, [Insert Federal Register citation]; 1/7/15, 80 FR 832 | except (a), (b), (c), (d), (e), (g), (j), and (k).
* * * * * * *
18 AAC 50.215 | Ambient Air Quality Analysis Methods | 4/17/15 | 5/19/16, [Insert Federal Register citation] | except (a)(4).
* * * * * * *

* * * * *

3. Section 52.96 is amended by revising paragraph (a) to read as follows:

§ 52.96 Significant deterioration of air quality.

(a) The State of Alaska Department of Environmental Conservation Air Quality Control Regulations are approved as meeting the requirements of 40 CFR 51.166 and part C for preventing significant deterioration of air quality. The specific provisions approved are: 18 AAC 50.010 except (7) and (8); 18 AAC 50.015; 18 AAC 50.020; 18 AAC 50.035(a)(4), (a)(5), and (b)(1); 18 AAC 50.040(h); and 18 AAC 50.215 except (a)(4) as in effect on April 17, 2015; 18 AAC 50.990 as in effect on November 9, 2014; 18 AAC 50.306 as in effect on January 4, 2013; 18 AAC 50.345 except (b), (c)(3), and (l) as in effect on September 14, 2012; and 18 AAC 50.250 as in effect on October 1, 2004.

* * * * *

[FR Doc. 2016-11626 Filed 5-18-16; 8:45 am]

BILLING CODE 6560-50-P